FEDERAL ACCOUNTING STANDARDS ADVISORY BOARD

Notice of Appointment of Board Member to FASAB

AGENCY: Federal Accounting Standards Advisory Board.

ACTION: Notice.

SUMMARY: Notice is hereby given that Mr. Raymond Vicks, Jr., has been appointed to the Federal Accounting Standards Advisory Board (FASAB or “the Board”). Mr. Vicks' five-year term will begin on July 1, 2022.

ADDRESSES: The news release is available on the FASAB website at https://www.fasab.gov/news-releases/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), the Federal Advisory Committee Act, as amended (5 U.S.C. App.), and the FASAB Rules of Procedure, as amended in October 2010.

Dated: December 17, 2021.
Monica R. Valentine,
Executive Director.

[FR Doc. 2021-27713 Filed 12-21-21; 8:45 am]

BILLING CODE P